DEPARTMENT OF TRANSPORTATION

Coast Guard

[USCG 2001-10403]

Collection of Information Under Review by Office of Management and Budget (OMB): OMB Control Numbers 2115-0503, 2115-0543, 2115-0553, 2115-0579, 2115-0094, and 2115-0582

AGENCY: Coast Guard, DOT.

ACTION: Request for comments.

SUMMARY: In compliance with the Paperwork Reduction Act of 1995, the Coast Guard intends to seek the approval of OMB for the renewal of six Information Collection Requests (ICRs). The ICRs comprise (1) Plan Approval and Records for Vessels Carrying Oil in Bulk, (2) Advance Notice and Certification of Adequacy for Reception Facilities, (3) Approval of Equivalent Equipment or Procedures Other Than Those Specified by Rule, (4) Application for Permit to Transport Municipal and Commercial Waste, (5) Safety Approval of Cargo Containers, and (6) Safety of Vessels in the Commercial Fishing Industry. Before submitting the ICRs to OMB, the Coast Guard is inviting comments on them as described below.

DATES: Comments must reach the Coast Guard on or before October 26, 2001.

ADDRESSES: You may mail comments to the Docket Management System (DMS) [USCG 2001-10403], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for these requests. Comments will become part of this docket and will be available for inspection or copying in room PL-401, located on the Plaza Level of the Nassif Building at the same address between 9 a.m. and 5 p.m., Monday through Friday, except Federal holidays. You may also access this docket on the Internet at http://dms.dot.gov.

Copies of the complete ICRs are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. Department of Transportation, 202-366-5149, for questions on the docket.

Request for Comments

The Coast Guard encourages interested persons to submit written comments. Persons submitting comments should include their names and addresses, identify this document (USCG 2001-10403), and give the reasons for the comments. Please submit all comments and attachments in an unbound format no larger than 8½ by 11 inches, suitable for copying and electronic filing. Persons wanting acknowledgment of receipt of comments should enclose stamped self-addressed postcards or envelopes.

Information Collection Request

1. Title: Plan Approval and Records for Vessels Carrying Oil in Bulk.

OMB Control Number: 2115-0503.

Summary: 46 U.S.C. 3703 provides the Coast Guard with the authority to specify standards for design, construction, alteration, repair, maintenance, operation, equipping, personnel qualification, and manning of vessels carrying oil in bulk. Plans and records for construction or modification of U.S. or foreign vessels submitted or maintained on board are needed for compliance with these standards.

Need: This information collection aids the Coast Guard in determining whether a vessel complies with certain standards of safety and environmental protection.

Respondents: Owners and operators of vessels.

Frequency: On occasion.

Burden Estimate: The estimated burden is 443 hours a year.

2. Title: Advance Notice and Certification of Adequacy for Reception Facilities.

OMB Control Number: 2115-0543.

Summary: 33 U.S.C. 1905 gives the Coast Guard the authority to certify the adequacy of reception facilities in ports. Reception facilities receive waste from ships, which may not discharge at sea. Under these rules there are limits on discharges for oil and oily waste, noxious liquid substances, plastics, and garbage.

Need: This information collection is needed to evaluate the adequacy of reception facilities before issuance of a Certificate of Adequacy. Information for the advance notice ensures effective management of reception facilities and reduces the burden to facilities and ships .

Respondents: Owners and operators of reception facilities, and owners and operators of vessels.

Frequency: On occasion.

Burden Estimate: The estimated burden is 1,215 hours a year.

3. Title: Approval of Equivalent Equipment or Procedures Other Than Those Specified by Rule.

OMB Control Number: 2115-0553.

Summary: This information collection implements the concept of Best Available and Safety Technology provided for in Section 21 of the Outer-Continental-Shelf (OCS) Lands Act, as amended. The information allows owners and operators to propose, for approval by the Coast Guard, alternative equipment or procedures that would provide a comparable level of safety.

Need: The information helps the Coast Guard ensure that alternatives proposed would yield a level of safety at least equivalent to that of measures provided for in 33 CFR Subchapter N.

Respondents: Owners and operators of facilities in the OCS.

Frequency: On occasion.

Burden Estimate: The estimated burden is 50 hours a year.

4. Title: Application for Permit to Transport Municipal and Commercial Waste.

OMB Control Number: 2115-0579.

Summary: This information collection provides the basis for issuing or denying a permit for the transportation of municipal or commercial waste in the coastal waters of the United States.

Need: In accordance with 33 U.S.C. 2601, the U.S. Coast Guard issued rules requiring the owner or operator of a vessel to apply for a permit to transport municipal or commercial waste in the United States and to display an identification number or other marking on his vessel. This collection of information enables enforcement of those rules.

Respondents: Owners and operators of vessels.

Frequency: Every 18 months.

Burden Estimate: The estimated burden is 391 hours a year.

5. Title: Safety Approval of Cargo Containers.

OMB Control Number: 2115-0094.

Summary: This collection of information addresses the reporting and recordkeeping required for containers by 49 CFR Parts 450-453. These rules are necessary because the U.S. is signatory to the International Convention for Safe Containers (CSC), which requires that all containers be safety-approved before they are used in trade.

Need: This information collection requires owners and manufactures of cargo containers to submit information and keep records associated with the approval and inspection of those containers. This information is needed to ensure compliance with the CSC.

Respondents: Owners and manufacturers of containers, and organizations that the Coast Guard delegates to act as Approval Authorities.

Frequency: On occasion.

Burden Estimate: The estimated burden is 101,732 hours a year.

6. Title: Safety of Vessels in the Commercial Fishing Industry.

OMB Control Number: 2115-0582.

Summary: This information collection is intended to improve safety on board vessels in the commercial fishing industry. The requirements apply to those vessels and to seamen on them.

Need: Under the authority of 46 U.S.C. 6104, the Coast Guard has promulgated rules in 46 CFR Part 28 to reduce the unacceptably high level of fatalities and accidents in the commercial fishing industry. The rules allowing the collection also provide means of verifying compliance and enhancing safe operation of fishing vessels.

Respondents: Owners, agents, individuals-in-charge of vessels in the commercial fishing industry, and insurance underwriters.

Frequency: On occasion.

Burden: The estimated burden is 8,205 hours a year.

Dated: August 17, 2001.
V.S. Crea,
Director of Information and Technology.

[FR Doc. 01-21566 Filed 8-24-01; 8:45 am]

BILLING CODE 4910-15-P